DEPARTMENT OF HOUSING AND URBAN DEVELOPMENT

[Docket No. FR-4665-N-29]

Conference Call Meeting of the Manufactured Housing Consensus Committee

AGENCY: Office of the Assistant Secretary for Housing—Federal Housing Commissioner, HUD.

ACTION: Notice of upcoming meeting via conference call.

SUMMARY: This notice sets forth the schedule and proposed agenda of the upcoming meeting of the Manufactured Housing Consensus Committee (the Committee) to be held via telephone conference. The meeting is open to the general public, which may participate by following the instructions below.

DATES: The conference call meeting will be held on Wednesday, May 24, 2006, from 11 a.m. to 2 p.m. eastern standard time.

ADDRESSES: Information concerning the conference call can be obtained from the Department's Consensus Committee Administering Organization, the National Fire Protection Association (NFPA). Interested parties can link onto NFPA's Web site for instructions concerning how to participate, and for contact information for the conference call from a HUD Web site, in the section marked “Business” “Manufactured Housing Consensus Committee Information”. The link can be found at: http://www.hud.gov/offices/hsg/sfh/mhs/mhshome.cfm.

Alternately, interested parties may contact Jill McGovern of NFPA by phone at (617) 984-7404 (this is not a toll-free number) for conference call information.

FOR FURTHER INFORMATION CONTACT: William W. Matchneer III, Associate Deputy Assistant Secretary, Office of Regulatory Affairs and Manufactured Housing, Department of Housing and Urban Development, 451 7th Street, SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with Sections 10(a) and (b) of the Federal Advisory Committee Act (5 U.S.C. App. 2) and 41 CFR 102-3.150. The Manufactured Housing Consensus Committee was established under Section 604(a)(3) of the National Manufactured Housing Construction and Safety Standards Act of 1974, as amended, 42 U.S.C. 5403(a)(3). The Committee is charged with providing recommendations to the Secretary to adopt, revise, and interpret manufactured home construction and safety standards and procedural and enforcement regulations, and with developing and recommending proposed model installation standards to the Secretary.

The purpose of the conference call meeting is to permit the Committee, at its request, to review, and to take action on further recommendations to the Secretary regarding proposed changes to Title 24, Code of Federal Regulations, Part 3282 401 through 418 (Subpart I-Consumer Complaint Handling and Remedial Actions). It is necessary to have this meeting on this date, which is a continuation of its February 23, 2006, meeting called to discuss this matter, to permit the Committee to continue its consideration and take action regarding the foregoing matter in a timely manner.

Tentative Agenda

A. Roll call.

B. Welcome and opening remarks.

C. Full Committee meeting to take actions on proposed changes to 24 CFR part 3282, subpart I.

D. Adjournment.

Dated: April 20, 2006.
Brian D. Montgomery,
Assistant Secretary for Housing—Federal Housing Commissioner.

[FR Doc. E6-6384 Filed 4-27-06; 8:45 am]

BILLING CODE 4210-67-P